DEPARTMENT OF AGRICULTURE

Agricultural Marketing Service

[Doc. No. AMS-SC-24-0005]

Notice of Request for Extension and Revision of a Currently Approved Information Collection

AGENCY: Agricultural Marketing Service, USDA.

ACTION: Notice and request for comments.

SUMMARY: In accordance with the Paperwork Reduction Act of 1995, this notice announces the Agricultural Marketing Service's (AMS) intention to request approval from the Office of Management and Budget (OMB) for an extension of and revision to the currently approved information collection 0581-0328 for the Pecan Promotion, Research, and Information Program.

DATES: Comments must be received by August 12, 2024 to be assured of consideration.

ADDRESSES: Interested persons are invited to submit written comments concerning this notice. Comments may be mailed to the Docket Clerk, Market Development Division, Specialty Crops Program, AMS, USDA, 1400 Independence Avenue SW, STOP 0237, Washington, DC 20250-0237; Fax: (202) 720-8938; or submitted electronically by Email: SM.USDA.MRP.AMS.MDDComment@usda.gov; or via internet at https://www.regulations.gov. Comments should reference the document number and the date and page number of this issue of the Federal Register. All comments will be made available for public inspection in the Office of the Docket Clerk during regular business hours or can be viewed at https://www.regulations.gov. Comments submitted in response to this notice will be included in the rulemaking record and will be made available to the public. Please be advised that the identity of the individuals or entities submitting the comments will be made public.

FOR FURTHER INFORMATION CONTACT: Katie Cook, Marketing Specialist at telephone: (202) 617-4760, or electronic mail: Katie.Cook@usda.gov, or Sarah Richardson, Marketing Specialist at telephone: (202) 720-8085 electronic mail: Sarah.Richardson@usda.gov, Market Development Division, Specialty Crops Program, AMS, USDA, Stop 0244, Room 1406-S, 1400 Independence Avenue SW, Washington, DC 20250-0244.

SUPPLEMENTARY INFORMATION:

Title: Pecan Promotion, Research, and Information Program.

OMB Number: 0581-0328.

Expiration Date of Approval: October 31, 2024.

Type of Request: Extension and revision of a currently approved information collection.

Abstract: The Pecan Promotion, Research, and Information program was created to help strengthen the position of pecans in the marketplace, maintain and expand markets for pecans, and develop new uses for pecans. The Pecan Promotion, Research, and Information Order (Order) (7 CFR part 1223) is authorized under the Commodity Promotion, Research, and Information Act of 1996 (1996 Act) (7 U.S.C. 7411-7425).

The Order became effective on February 12, 2021. Currently, the Pecan program is administered by the American Pecan Promotion Board (Board) which is appointed by the Secretary of Agriculture and financed by a mandatory assessment on producers and importers of inshell and shelled pecans. The assessment rate is levied at $0.02 per pound on all inshell pecans and $0.04 per pound on all shelled pecans. The program provides an exemption for producers and importers that produce or import fewer than 50,000 pounds of inshell pecans (25,000 pounds of shelled pecans) on average for four fiscal periods (the fiscal period for which the exemption is claimed and the previous three fiscal periods).

The information collection requirements in this request are essential to carry out the intent of the 1996 Act and the Order. The objective in carrying out this responsibility includes assuring the following: (1) funds are collected and properly accounted for; (2) expenditures of all funds are for the purposes authorized by the 1996 Act and Order; and (3) the board's administration of the programs conforms to USDA policy. Such information can be supplied without data processing equipment or outside technical expertise. In addition, there are no additional training requirements for individuals filling out reports and remitting assessments to the Board.

The Board utilizes a variety of forms including: first handler and importer reports, application for exemption, nomination form and ballot, reimbursement of assessments, and recordkeeping requirements and prefers electronic versions of the forms for easier access and submission.

The information collected is used only by authorized representatives of the USDA's regional and headquarters staff, and authorized Board employees. Authorized Board employees and the industry are the primary users of the information, and AMS is the secondary user.

Estimate of Burden: Public recordkeeping burden for this collection of information is estimated to average 0.43 hour per response.

Respondents: Producers and importers.

Estimated Number of Respondents: 725.

Estimated Total Annual Responses: 10,718.

Estimated Number of Responses per Respondent: 2.

Estimated Total Annual Burden on Respondents: 2,873 hours.

Comments: Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will also become a matter of public record.

Authority: 44 U.S.C. chapter 35.

Erin Morris,
Associate Administrator, Agriculture Marketing Service.

[FR Doc. 2024-12673 Filed 6-10-24; 8:45 am]

BILLING CODE P